OFFICE OF MANAGEMENT AND BUDGET

Office of Federal Procurement Policy

Publication of the Office of Federal Procurement Policy (OFPP) Policy Letter 05-01, Developing and Managing the Acquisition Workforce

AGENCY: Office of Management and Budget, Office of Federal Procurement Policy.

SUMMARY: In accordance with section 37(b)(3) of the OFPP Act, as amended (41 U.S.C. 433(b)(3)), the Administrator for Federal Procurement Policy is authorized to issue policies to promote uniform implementation of a program to develop the federal acquisition workforce. OFPP is publishing Policy Letter 05-01, Developing and Managing the Acquisition Workforce, which more broadly defines the acquisition workforce and more closely aligns civilian and defense acquisition workforce requirements. This Policy Letter applies to all executive agencies, except those subject to the Defense Acquisition Workforce Improvement Act (DAWIA) (10 U.S.C. 1741-46).

OFPP Policy Letter 05-01 supersedes and rescinds OFPP Policy Letter 92-3, Procurement Professionalism Program Policy—Training for Contracting Personnel, and Policy Letter 97-01, Procurement System Education, Training and Experience Requirements for Acquisition Personnel.

DATES: The effective date of OFPP Policy Letter 05-01 is April 15, 2005.

FOR FURTHER INFORMATION CONTACT: Lesley A. Field, Office of Federal Procurement Policy, Office of Management and Budget, New Executive Office Building, Room 9013, 725 17th Street, NW., Washington, DC 20503 (202 395-7579 or 202 395-4761).

Availability: OFPP Policy Letter 05-01 and rescinded Policy Letters 92-3 and 97-01 may be obtained on: http://www.acqnet.gov/AcqNet/Library/OFPP/PolicyLetters. Paper copies of these documents may be obtained by calling (202) 395-7579.

SUPPLEMENTARY INFORMATION: The development and professionalism of the federal acquisition workforce is a priority for OFPP and supports the Office of Management and Budget's focus on human capital and financial management. The acquisition workforce is a federal asset upon which the government depends for mission accomplishment, and OFPP is committed to ensuring that the workforce is trained and developed to meet the government's current and future mission needs.

The principal purposes of Policy Letter 05-01 are: (1) To define the acquisition workforce to include additional acquisition-related functions and create a multi-disciplined acquisition community, (2) to align the civilian (non-Department of Defense) and defense acquisition workforce training requirements, and (3) to emphasize the importance to federal managers and the workforce of continuous learning, to include training on critical subjects such as ethics, performance-based contracting, and other timely and topical areas.

The acquisition function continues to become more integrated into agency core business processes, and the developmental needs of the workforce are changing. This progression is reflected in the Services Acquisition Reform Act of 2003 (SARA) (Pub. L. 108-136), which defines acquisition more broadly to include, among traditional contracting functions, requirements definition, measurement of contract performance, and technical and management direction. Additionally, SARA requires agency Chief Acquisition Officers to develop and maintain an acquisition career management program and ensure the development of an adequate, professional workforce. Policy Letter 05-01 articulates specific responsibilities to implement these SARA requirements.

OFPP Policy Letters 92-3 and 97-01, which are rescinded, established an emphasis on the development of the acquisition workforce but did not prescribe a core, government-wide curriculum. Policy Letter 92-3 established standards for skill-based training in contracting and purchasing functions and articulated core tasks. Policy Letter 97-01, which was developed in response to the requirements of the Clinger-Cohen Act of 1996 (40 U.S.C. 1401(3)), required senior procurement executives to develop agency career management programs and establish policies and procedures, including training requirements, to ensure that the workforce was trained adequately. While these letters established a strong framework for managing the workforce, training content and delivery were not necessarily consistent across civilian agencies or consistent with the defense acquisition workforce requirements prescribed by DAWIA.

Policy Letter 05-01 aligns core civilian agency acquisition workforce training requirements with those for the defense workforce. The Department of Defense (DOD) curriculum reflects the competencies required to perform the tasks articulated in Policy Letter 92-3, and later referenced in Policy Letter 97-01. This alignment will ensure that our federal acquisition workforce has common, core training, and will promote workforce mobility. Section 1.603-2 of the Federal Acquisition Regulation (48 CFR 1) will be modified to reflect the requirements of the new Letter.

The Letter also emphasizes the importance of continuous learning. For example, employees in the GS-1102 series will now need eighty continuous learning points every two years—twice the current requirement. This emphasis on continuous learning in areas such as ethics, performance-based contracting, and other critical areas, ensures that federal managers and the acquisition workforce adhere to ethical contracting practices, apply sound business judgment, and otherwise engage in responsible stewardship of taxpayer dollars. Many of these continuous learning opportunities are available free of charge on the Federal Acquisition Institute (FAI) Web site on http://www.fai.gov and through the Defense Acquisition University on http://www.dau.mil.

FAI and DAU are forming a partnership to advance the capabilities of our federal acquisition workforce. To address the changing nature of the acquisition environment, DAU is currently restructuring the contracting curriculum. As new courses are completed, course content will be made available to training providers to obtain equivalencies for the new offerings. Civilian agencies depend on the private training provider community for course delivery, and these providers need time to develop core courses and request equivalencies. Additionally, employees may already be scheduled to take comparable courses or may have completed a significant part of the previous DOD curriculum. Therefore, civilian agencies should use October 1, 2005, as a general guideline in adopting the DOD curriculum, but may reasonably extend the transition time to accommodate agency and employee needs. FAI will provide guidance and information on transition as the coursework is developed and classes become available.

David H. Safavian,
Administrator.

[FR Doc. 05-7651 Filed 4-13-05; 3:14 pm]

BILLING CODE 3110-01-P